DEPARTMENT OF HEALTH AND HUMAN SERVICES

Substance Abuse and Mental Health Services Administration

Advisory Committee for Women's Services (ACWS); Solicitation of Nominations for Additional Non-Voting Representatives on the Maternal Mental Health Task Force

AGENCY: Substance Abuse and Mental Health Services Administration (SAMHSA), Department of Health and Human Services.

ACTION: Notice.

SUMMARY: The Substance Abuse and Mental Health Services Administration (SAMHSA) within the Department of Health and Human Services (HHS), is soliciting applications from qualified individuals or organizations to be considered for non-voting representative positions on the Maternal Mental Health Task Force subcommittee of the Advisory Committee for Women's Services (ACWS) (ACWS Subcommittee), as authorized in the Consolidated Appropriations Act. This notice solicits additional representatives.

DATES: Nomination period is open until September 22, 2023.

ADDRESSES: All nominations should be sent to Valerie Kolick, Designated Federal Officer (DFO), Advisory Committee on Women's Services, SAMHSA, 18th Floor, 5600 Fishers Ln., Rockville, MD 20857. Nomination materials, including attachments, may be submitted electronically to valerie.kolick@samhsa.hhs.gov.

FOR FURTHER INFORMATION CONTACT: Valerie Kolick, Designated Federal Officer, Advisory Committee on Women's Services, SAMHSA, 5600 Fishers Ln., Rockville, MD 20857. Telephone number (240) 276-1738. Inquiries can be sent to valerie.kolick@samhsa.hhs.gov.

SUPPLEMENTARY INFORMATION: As previously announced in 88 FR 24622 (Apr. 21, 2023), the ACWS Subcommittee will consist of non-voting representatives selected by the ACWS DFO. We are issuing this current notice to solicit additional representatives to the ACWS Subcommittee. The ACWS's role is to advise the Associate Administrator for Women's Services (AAWS) on appropriate activities to be undertaken by the agencies of the Administration with respect to women's substance use and mental health services, including services which require a multidisciplinary approach. These may include discussion on the development of policies and programs regarding women's issues; plans to standardize and enhance the collection of data on women's health, and other emerging issues concerning women's substance use and mental health services.

Management and support services for Committee activities are provided by staff from the HHS SAMHSA. The ACWS charter is available at https://www.samhsa.gov/about-us/advisory-councils/acws/committee-charter. The ACWS meetings are held not less than two times per fiscal year.

Subcommittees of the ACWS may be established with the approval of the Assistant Secretary or the AAWS. The advice/recommendations of a subcommittee must be deliberated by the parent committee. A subcommittee may not provide advice or work products directly to the agency. The Department Committee Management Officer will be notified upon the establishment of each subcommittee and will be provided information on its name, membership, function, and estimated frequency of meetings.

In particular, this subcommittee will focus on maternal mental health and substance use including prevention, screening, diagnosis, treatment, equity and community-based interventions. These non-voting positions will consist of:

Federal members to include representatives of: Department of Health and Human Services, Substance Abuse Mental Health Services Administration, Assistant Secretary for Planning and Evaluation, Administration for Children and Families, Centers for Disease Control and Prevention, Centers for Medicare and Medicaid Services, Health Resources and Services Administration, Indian Health Services, and other Federal departments as necessary.

Non-Federal members to include representatives of the following with expertise in maternal, mental health, and/or substance use: professional medical societies, professional nursing societies, and/or health paraprofessional societies, nonprofit organizations, relevant industry representatives, individuals with lived experience, and other representatives, as appropriate.

Representatives will be designated to occupy the positions for a two-year term to commence during the 2023 calendar year. The individuals chosen for representation on ACWS Subcommittee will be recommended by the DFO or designee during the 2023 calendar year and appointed by the Assistant Secretary for Mental Health and Substance Use. Details of application requirements are provided below.

Nominations

SAMHSA is requesting nominations of representatives to fill non-voting positions for the ACWS Subcommittee. The representatives can be individuals or organizations. The representatives will be recommended by the DFO or designee during the 2023 calendar year and approved by the Assistant Secretary.

Selection of representatives will be based on the qualifications of the individual or organization to contribute to the accomplishment of the ACWS mission, as described in the Committee charter. In selecting representatives to be considered for these positions and to ensure that representation is fairly balanced in terms of points of view, SAMHSA will give close attention to equitable geographic distribution, expertise mix, and diversity, and give priority to individuals with lived experience, and U.S.-chartered 501(c)(3) organizations that operate within the United States, and have membership with demonstrated expertise in maternal mental health, and/or substance use or related research, clinical services, or advocacy and outreach through professional organizations and/or industry on issues concerning maternal mental health and/or substance use.

Organizations that currently have non-voting liaison representatives serving on ACWS are also eligible for nomination or to nominate themselves for consideration.

The representatives will perform the associated duties without compensation and will not receive per diem or reimbursement for travel expenses. It is expected there will be at least one in-person ACWS Subcommittee meeting per year in the DC metropolitan area during the designated term of appointment. Representatives will need to pay for their own travel.

To qualify for consideration of selection to the ACWS Subcommittee, an individual or organization should submit the following items:

(1) A statement of the organization's or individual's experience and expertise in maternal mental health, substance use, and/or related research, clinical services, or advocacy and outreach through professional organizations and/or industry, as well as expert knowledge or lived experience of the broad issues and topics pertinent to maternal mental health and/or substance use. This information should demonstrate the organization's or individual's proven ability to work and communicate with the maternal mental and/or substance use patient and advocacy community, and other public/private organizations concerned with maternal mental health and/or substance use, including public health agencies at the Federal, State, and local levels.

(2) Two to four letters of recommendation that clearly state why the applicant is qualified to serve on the ACWS Subcommittee in a non-voting position. These letters should be from individuals who are not part of the organization.

(3) A statement that the individual is willing to serve as a non-voting liaison representative of the ACWS Subcommittee and will cover expenses to attend at least one ACWS meeting per year in Washington DC metropolitan area during the designated term of appointment. Submitted nominations must include these critical elements in order for the individual or organization to be considered for one of the ACWS Subcommittee positions.

Nomination materials should be typewritten, using a 12-point font and double-spaced. Nominations are being accepted on a rolling basis until the deadline.

Electronic submissions: Nomination materials, including attachments, may be submitted electronically to valerie.kolick@samhsa.hhs.gov. Telephone and facsimile submissions cannot be accepted.

HHS makes every effort to ensure that the membership of Federal advisory committees is fairly balanced in terms of points of view represented. Every effort is made to ensure that a broad representation of geographic areas, sex, ethnic and minority groups, and people with disabilities are given consideration for membership on Federal advisory committees. Selection of the representatives shall be made without discrimination on the basis of age, sex, race, ethnicity, sexual orientation, sexual identity, disability, and cultural, religious, or socioeconomic status.

Authority: The Substance Abuse and Mental Health Services Administration's (SAMHSA) Advisory Committee for Women's Services (ACWS) is required by 42 U.S.C. 290aa; section 501(f)(2)(C) of the Public Health Service Act, as amended. The ACWS is governed by the provisions of the Federal Advisory Committee Act (FACA), as amended, 5 U.S.C. 10. The Maternal Mental Health Task Force subcommittee is authorized in section 1113 of Public Law 117-328 (Consolidated Appropriations Act, 2023).

Dated: August 17, 2023.
Carlos Castillo,
Committee Management Officer.

[FR Doc. 2023-18216 Filed 8-23-23; 8:45 am]

BILLING CODE 4162-20-P